DEPARTMENT OF ENERGY

Federal Energy Regulatory Commission

Combined Notice of Filings # 1

April 5, 2007.

Take notice that the Commission received the following electric corporate filings:

Docket Numbers: EC07-57-000.

Applicants: Wisconsin Electric Power Company.

Description: Wisconsin Electric Power Company, submits a response to the Commission March 15, 2007 Request for Information.

Filed Date: 03/30/2007.

Accession Number: 20070330-5142.

Comment Date: 5 p.m. Eastern Time on Thursday, April 12, 2007.

Docket Numbers: EC07-74-000.

Applicants: Toledo Edison Company; FirstEnergy Generation Corp.; Cleveland Electric Illuminating Company.

Description: FirstEnergy Generation Corp. et al submit an application for authorization to acquire and lease existing generation and request for waivers of filing requirements etc.

Filed Date: 04/02/2007.

Accession Number: 20070404-0168.

Comment Date: 5 p.m. Eastern Time on Monday, April 23, 2007.

Take notice that the Commission received the following electric rate filings:

Docket Numbers: ER05-1179-009.

Applicants: Berkshire Power Company, LLC.

Description: Berkshire Power Company LLC submits updated refund report in compliance with FERC's March 1, 2007 Order.

Filed Date: 04/02/2007.

Accession Number: 20070404-0090.

Comment Date: 5 p.m. Eastern Time on Monday, April 23, 2007.

Docket Numbers: ER07-696-000.

Applicants: Carolina Power & Light Company.

Description: Carolina Power & Light Co dba Progress Energy Carolinas, Inc submits its Fourth Revised Sheet 3 et al, to FERC Gas Tariff, Third Revised Volume 3.

Filed Date: 04/03/2007.

Accession Number: 20070404-0059.

Comment Date: 5 p.m. Eastern Time on Tuesday, April 24, 2007.

Docket Numbers: ER07-697-000.

Applicants: Florida Power Corporation.

Description: Florida Power Corporation dba Progress Energy Florida Inc submits its Fourth Revised Sheet 3 et al in compliance with Commission's Order issued 4/25/06 and 11/30/06.

Filed Date: 04/03/2007.

Accession Number: 20070404-0058.

Comment Date: 5 p.m. Eastern Time on Tuesday, April 24, 2007.

Docket Numbers: ER07-699-000.

Applicants: PJM Interconnection, L.L.C.

Description: PJM Interconnection, LLC submits revisions to the chart in Schedule 2 of its OATT to incorporate the revised revenue requirements for Calumet Energy Team, LLC etc.

Filed Date: 04/02/2007.

Accession Number: 20070404-0103.

Comment Date: 5 p.m. Eastern Time on Monday, April 23, 2007.

Docket Numbers: ER07-700-000.

Applicants: Bangor Hydro-Electric Company.

Description: Bangor Hydro-Electric Company submits proposed revisions to its local service schedule set forth as Schedule 21-BHE in the ISO New England Inc.'s TMS Tariff.

Filed Date: 04/02/2007.

Accession Number: 20070404-0105.

Comment Date: 5 p.m. Eastern Time on Monday, April 23, 2007.

Docket Numbers: ER07-701-000.

Applicants: Midwest Independent Transmission System Operator, Inc.

Description: Midwest Independent Transmission System Operator, Inc. submits proposed revisions to its Open Access Transmission and Energy Markets Tariff, in order to add Schedule 10-ERO etc.

Filed Date: 04/02/2007.

Accession Number: 20070404-0106.

Comment Date: 5 p.m. Eastern Time on Monday, April 23, 2007.

Docket Numbers: ER07-702-000.

Applicants: Central Maine Power Company.

Description: Central Maine Power Company submits proposed revisions to the formula rates for local transmission services set forth in Schedule 21-CMP of the ISO New England Inc. Transmission, Markets and Services Tariff.

Filed Date: 04/03/2007.

Accession Number: 20070404-0065.

Comment Date: 5 p.m. Eastern Time on Tuesday, April 24, 2007.

Docket Numbers: ER07-703-000.

Applicants: Florida Power & Light Company New England Division.

Description: Florida Power & Light Co. submits First Revised Sheet 4246 et al to modify Schedule 21-FPL-NED of Section II of ISO-New England's Transmission Markets and Services Tariff.

Filed Date: 04/02/2007.

Accession Number: 20070404-0108.

Comment Date: 5 p.m. Eastern Time on Monday, April 23, 2007.

Docket Numbers: ER07-704-000.

Applicants: PJM Interconnection, L.L.C.

Description: PJM Interconnection, LLC submits an executed Service Agreement for Network Integration Transmission Service under the PJM OATT pursuant to section 205 of the FPA.

Filed Date: 04/02/2007.

Accession Number: 20070404-0107.

Comment Date: 5 p.m. Eastern Time on Monday, April 23, 2007.

Docket Numbers: ER07-705-000.

Applicants: GSG, LLC.

Description: GSG, LLC submits its application for order accepting market-based rate tariff, granting authorizations and blanket authority and waiving certain requirements.

Filed Date: 04/03/2007.

Accession Number: 20070404-0109.

Comment Date: 5 p.m. Eastern Time on Tuesday, April 24, 2007.

Docket Numbers: ER07-706-000.

Applicants: Public Service Company of New Mexico.

Description: Public Service Company of New Mexico submits First Revised Sheet 14 et al to FERC Electric Tariff, First Revised Volume 5 pursuant to section 205 of the Federal Power Act and Part 35 etc.

Filed Date: 04/03/2007.

Accession Number: 20070404-0087.

Comment Date: 5 p.m. Eastern Time on Tuesday, April 24, 2007.

Docket Numbers: ER07-707-000.

Applicants: American Electric Power Service Corporation.

Description: American Electric Power Service Corp, agent for AEP Texas North Company et al submits the Restated and Amended Interconnection Agreement with LCRA Transmission Services Corp.

Filed Date: 04/03/2007.

Accession Number: 20070404-0167.

Comment Date: 5 p.m. Eastern Time on Tuesday, April 24, 2007.

Docket Numbers: ER07-708-000.

Applicants: Twin Cities Power, L.L.C.

Description: Twin Cities Power LLC notifies FERC that, as a result of a name change, it has succeeded Twin Cities Power Generation LLC & Twin Cities Power Generation, LLC, originally received market-based rate authorization.

Filed Date: 04/03/2007.

Accession Number: 20070404-0086.

Comment Date: 5 p.m. Eastern Time on Tuesday, April 24, 2007.

Docket Numbers: ER07-709-000.

Applicants: Southwest Power Pool, Inc.

Description: Southwest Power Pool, Inc submits Exhibit I as revised version of the LGIA with the required designation to their 11/13/06 filing pursuant to Order 614.

Filed Date: 04/03/2007.

Accession Number: 20070404-0085.

Comment Date: 5 p.m. Eastern Time on Tuesday, April 24, 2007.

Take notice that the Commission received the following electric securities filings.

Docket Numbers: ES07-29-000.

Applicants: Old Dominion Electric Cooperative, Inc.

Description: Old Dominion Electric Cooperative, Inc. submits an application for Extension of Authorization to Guarantee Obligations under section 204 of FPA and for exemption from the Commission's Competitive Bidding Requirement Under sec. 34.2.

Filed Date: 04/03/2007.

Accession Number: 20070403-5068.

Comment Date: 5 p.m. Eastern Time on Tuesday, April 24, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-6817 Filed 4-10-07; 8:45 am]

BILLING CODE 6717-01-P